DEPARTMENT OF THE INTERIOR

Bureau of Land Management

[LLNM930000 L12200000.PM0000]

Notice of Temporary Closure of Caves With Significant Bat Resources on Public Lands in New Mexico

AGENCY: Bureau of Land Management, Interior.

ACTION: Notice of temporary closure.

SUMMARY: Notice is hereby given that a temporary closure of caves and abandoned mines (sites) with significant bat resources is in effect on public lands administered by the Bureau of Land Management (BLM) New Mexico to reduce the risk of mortality to bat populations from white-nosed syndrome.

DATES: This closure will be in effect from January 25, 2011 and not to exceed January 25, 2013.

FOR FURTHER INFORMATION CONTACT: Roger Jaggers, BLM New Mexico State Office Outdoor Recreation Planner, by phone at (505) 954-2184 or by mail at P.O. Box 27115, Santa Fe, New Mexico 87502-0115. Persons who use a telecommunications device for the deaf (TDD) may call the Federal Information Relay Service (FIRS) at 1-800-877-8339 to contact the above individual during normal business hours. The FIRS is available 24 hours a day, seven days a week, to leave a message or question with the above individual. A reply would be received during normal business hours.

SUPPLEMENTARY INFORMATION: This closure affects the following sites with significant bat resources on lands administered by the respective offices of the BLM: Billy the Kid, Dry, Endless, McKittrick, Rusty Hinge, Sand, Adobe, and Yellowjacket caves administered by the Carlsbad Field Office; Geronimo, U-Bar and Lepto Splat caves administered by Las Cruces District Office; Pronoun Cave Complex administered by the Rio Puerco Field Office; Bat Hole, Big-eared, Corn Sinkhole, Crockett's, Crystal, Feather, Fly, Fort Stanton, Malpais Madness, Smiley, Sun Spot, Torgac's, Torgac's Annex, Tres Niños caves, and Martin-Antelope Gyp Cave Complex administered by the Roswell Field Office, and Ladrone Cave administered by the Socorro Field Office. Because of the provisions of the Federal Cave Resource Protection Act of 1988, legal descriptions of these sites are not presented in this notice. Additional information on each affected site is available at the respective BLM offices listed above. In addition to the sites identified above for immediate closure, and under the same conditions and stipulations, the BLM may target and close other sites with significant bat resources to public entry. Criteria and rationale used to identify, select, and close all sites is presented in the White-Nose Syndrome Interagency Response Plan for New Mexico (November 2010). A copy of this response plan is available to the public by contacting Roger Jaggers, BLM New Mexico State Office Outdoor Recreation Planner, by phone at (505) 954-2184 or by mail at P.O. Box 27115, Santa Fe, New Mexico 87502-0115. This temporary closure is necessary to reduce the risk of mortality to bat populations from the spread of white-nosed syndrome, a disease responsible for the mortality of over a million hibernating bats in North America. First observed in the State of New York in 2006, the fungus associated with white-nosed syndrome has been documented as far west as Oklahoma. Scientific data indicates that fungal spores associated with the disease may be spread inadvertently among bat hibernation sites by humans, their clothing, or caving gear.

To inform the public, sites identified for closure would be: (1) Signed and posted in the local BLM office having jurisdiction over the lands to which the order applies; and (2) Posted at places near or at the area to which the closure applies and in such manner and location as is reasonable to bring the closure to the attention of users.

Under the authority of Section 303(a) of the Federal Land Policy and Management Act of 1976 (43 U.S.C. 1733(a), 43 CFR 8360.0-7, and 43 CFR 8364.1, the BLM will close the sites identified above to physical entry. The location and amount of public land identified for closure is limited to each site and those lands immediately surrounding the point of entry. Exemptions will be granted for persons conducting search and rescue operations; approved white-nosed syndrome-related monitoring, research, or surveys; underground abandoned mine surveys and closures; and those authorized for activities granted by applicable mining laws. At a minimum, the BLM offices will require decontamination procedures to be followed by all exempted parties.

Any person who violates the closure order may be tried before a United States Magistrate and fined no more than $1,000, imprisoned for no more than 12 months, or both. Such violations may also be subject to the enhanced fines provided for by 18 U.S.C. 3571.

Authority: 43 CFR 8364.1.

William Merhege,
Acting State Director.

[FR Doc. 2011-1451 Filed 1-24-11; 8:45 am]

BILLING CODE 4310-FB-P